DEPARTMENT OF DEFENSE

Department of the Army

Privacy Act of 1974; System of Records

AGENCY: Department of the Army, DoD.

ACTION: Notice to alter a system of records.

SUMMARY: The Department of the Army is altering a system of records notice in its existing inventory of record systems subject to the Privacy Act of 1974, (5 U.S.C. 552a), as amended. The alteration expands the category of individuals covered.

DATES: This proposed action would be effective without further notice on (insert date thirty days from date published in the FR) unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on May 7, 2002, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: May 8, 2002.
Patricia L. Toppings,
Alternate OSD Federal Register Liaison Officer, Department of Defense.

A0640-3 CFSC

System name:

Privilege Card Application Files (February 22, 1993, 58 FR 10002).

Changes:

System identifier:

Delete entry and replace with ‘A0600-8-14 DAPE’.

System name:

Delete entry and replace with ‘Uniformed Services Identification Card.’

System location:

Delete entry and replace with ‘Headquarters, Department of the Army, Major Army commands, staff and field operating agencies, installations and activities, Army-wide. Official mailing addresses are published as an appendix to the Army’s compilation of systems of records notices.’

Categories of individuals covered by the system:

Delete entry and replace with ‘Active duty, Reserve, National Guard and retired members of the uniformed services and their family members; Department of the Army civilian employees assigned overseas or residing on a military installation within the United States and their authorized family members; eligible foreign military personnel and their family members; civilian employees under contract with the Department of Defense, Uniformed Services and other government agencies and their authorized family members; Red Cross personnel authorized by the Geneva Convention to accompany the Armed Forces; as well as other civilian and uniformed service members found eligible in accordance with eligibility requirements.’

Categories of records in the system:

Delete entry and replace with ‘Application for a Uniformed Services Identification Card/DEERS Enrollment, service members name, Social Security Number, unit address and phone number, date of birth, age, blood type, marital status, family member’s name, age, home address and phone number.’

Authority for maintenance of the system:

Delete entry and replace with ‘10 U.S.C. 3013, Secretary of the Army; Army Regulation 600-8-14, Identification Cards for Members of The Uniformed Services, Their Family Members, and Other Eligible Personnel; and E.O. 9397 (SSN).’

Purpose(s):

Delete entry and replace with ‘Provide a record of identification cards issued and DEERS enrollment to ensure positive identification of personnel authorized privileges and service on military installations and/or activities.’

* * * * *

Retrievability:

Delete entry and replace with ‘By service members’ name and Social Security Number; by applicant's name and Social Security Number.’

Safeguards:

Delete entry and replace with ‘Records are maintained in secured buildings and are accessed only by authorized personnel who are trained and cleared for access, in the performance of their duties. Established procedures for the control of computer access are in placed and periodically reviewed and updated to prevent unwarranted access.’

Retention and disposal:

Delete entry and replace with ‘Applications for military identification cards are destroyed after 1 year. Uniformed services identification cards are destroyed when no longer needed for current operations. Registers are destroyed after 5 years, unless they are bound which are maintained for 5 years after last entry then destroyed.

Uniformed Services identification cards for family members and other eligible personnel are destroyed when voided, replaced or is no longer valid (has expired).’

* * * * *

A0600-8-14 DAPE

System name:

Uniformed Services Identification Card.

System location:

Headquarters, Department of the Army, Major Army commands, staff and field operating agencies, installations and activities, Army-wide. Official mailing addresses are published as an appendix to the Army’s compilation of systems of records notices.

Categories of individuals covered by the system:

Active duty, Reserve, National Guard and retired members of the uniformed services and their family members; Department of the Army civilian employees assigned overseas or residing on a military installation within the United States and their authorized family members; eligible foreign military personnel and their family members; civilian employees under contract with the Department of Defense, Uniformed Services and other government agencies and their authorized family members; Red Cross personnel authorized by the Geneva Convention to accompany the Armed Forces; as well as other civilian and uniformed service members found eligible in accordance with eligibility requirements.

Categories of records in the system:

Application for a Uniformed Services Identification Card/DEERS Enrollment, service members name, Social Security Number, unit address and phone number, date of birth, age, blood type, marital status, family member's name, age, home address and phone number.

Authority for maintenance of the system:

10 U.S.C. 3013, Secretary of the Army; Army Regulation 600-8-14, Identification Cards for Members of The Uniformed Services, Their Family Members, and Other Eligible Personnel; and E.O. 9397 (SSN).

Purpose(s):

Provide a record of identification cards issued and DEERS enrollment to ensure positive identification of personnel authorized privileges and service on military installations and/or activities.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Use’ set forth at the beginning of the Army's compilation of systems of records notices also apply to this system.

Policies and practices for storing, retrieving, accessing, retaining, and disposing of records in the system:

Storage:

Paper records in file folders; magnetic tapes; discs; cassettes; computer printouts, and microfiche.

Retrievability:

By service members' name and Social Security Number; by applicant's name and Social Security Number,

Safeguards:

Records are maintained in secured buildings and are accessed only by authorized personnel who are trained and cleared for access, in the performance of their duties. Established procedures for the control of computer access are in place and periodically reviewed and updated to prevent unwarranted access.

Retention and disposal:

Applications for military identification cards are destroyed after 1 year. Uniformed services identification cards are destroyed when no longer needed for current operations. Registers are destroyed after 5 years, unless they are bound which are maintained for 5 years after last entry then destroyed.

Uniformed Services identification cards for family members and other eligible personnel are destroyed when voided, replaced or is no longer valid (has expired).

System manager(s) and address:

Commander, U.S. Total Army Personnel Command, 200 Stovall Street, Alexandria, VA 22332-0400.

Notification procedure:

Individuals seeking to determine whether information about themselves is contained in this system should address written inquiries to the issuing office where the individual obtained the identification card or to the system manager.

Individual should provide the full name, number of the identification card, current address, and signature.

Record access procedures:

Individuals seeking access to records about themselves contained in this record system should address written inquiries to the issuing officer at the appropriate installation.

Individual should provide the full name, number of the identification card, current address, and signature.

Contesting record procedures:

The Army rules for accessing records, and for contesting contents and appealing initial agency determinations are contained in Army Regulation 340-21; 32 CFR part 505; or may be obtained from the system manager.

Record source categories:

From the individual, Army records and reports.

Exemptions claimed for the system:

None.

[FR Doc. 02-12057 Filed 5-14-02; 8:45 am]

BILLING CODE 5001-08-P